DEPARTMENT OF DEFENSE

Department of the Army, Corps of Engineers

Notice of Intent To Prepare an Environmental Impact Statement (EIS) for the White River Minimum Flow Study, Arkansas and Missouri

AGENCY: U.S. Army Corps of Engineers, Department of Defense.

ACTION: Notice of intent.

SUMMARY: The purpose of the EIS is to address alternatives and impacts pertaining to reallocation of water storage at five reservoirs in the White River System (Beaver, Table Rock, Bull Shoals, Norfork, and Greers Ferry) as authorized by section 374, “White River Basin, Arkansas and Missouri” of P.L. 106-53 (Water Resources Development Act of 1999).

FOR FURTHER INFORMATION CONTACT: Questions or comments concerning the proposed action should be addressed to Mr. Jim Ellis, Environmental Team Leader, Planning Branch, P.O. Box 867, Little Rock, Arkansas 72203-0867, telephone 501-324-5033, e-mail: James.D.Ellis@sw102.usace.army.mil.

SUPPLEMENTARY INFORMATION: Beaver Lake, Table Rock Lake, Bull Shoals Lake, Norfork Lake, and Greers Ferry Lake were authorized for the purposes of flood control, hydroelectric power generation, water supply, recreation, and fish and wildlife. Each of these lakes has specifically authorized storage for the purposes of flood control and hydropower generation. Beaver Lake and Greers Ferry Lake also have specifically authorized storage for water supply and Table Rock Lake has specifically authorized storage for fish and wildlife.

The evaluation study and EIS for the White River Minimum Flow Project is being conducted in response to Section 374, “White River Basin, Arkansas and Missouri” of P.L. 106-53 (Water Resources Development Act of 1999).

The study will address implementation of the reallocation of 1.5 feet of storage from Beaver Lake, 2.0 feet of storage from Table Rock Lake, 5.0 feet of storage from Bull Shoals Lake, 3.5 feet of storage from Norfok Lake, and 3 feet of storage in Greers Ferry Lake for the purpose of providing minimum flows to sustain the downstream trout fishery. The study will evaluate impacts due to reallocation from the conservation pool and reallocation from the flood control pool. The study will also evaluate necessary structural modifications to the projects to achieve the desired minimum releases.

The EIS will evaluate the effects of alternatives on the authorized project purposes and other identified concerns. Significant issues to be addressed in the EIS include: (1) Impacts on flood control; (2) impacts on hydropower generation; (3) impacts on recreation and recreation facilities; (4) impacts on structure of the dam; (5) impacts on dish and wildlife resources within and also above and below the lake; (6) impacts on downstream flows on the White River System; and (7) other impacts identified by the Public, agencies, or Corps studies.

Scoping meetings for the project are planned to be conducted from June through September 2000. News releases informing the public and local, state, and Federal agencies of the proposed action will be published in local newspapers. Comments received as a result of this notice and the news releases will be used to assist the Little Rock District in identifying potential impacts to the quality of the human or natural environment.

Affected local, state, or Federal agencies, affected Indian tribes, and other interested private organizations and parties may participate in the Scoping process by forwarding written comments to the above noted address or attending Scoping meetings.

The draft EIS (DEIS) is expected to be available for public review and comment by December 2001 subject to receipt of Federal funding. Any comments and suggestions should be forwarded to the above noted address no later than November 1, 2000, to be considered in the DEIS.

Douglas L. Bentley, Jr.,
Major, Corps of Engineers, Acting District Engineer.

[FR Doc. 00-13345 Filed 5-26-00; 8:45 am]

BILLING CODE 3710-57-M